DEPARTMENT OF AGRICULTURE

Forest Service

Lincoln Resource Advisory Committee

AGENCY: Forest Service, USDA.

ACTION: Notice of meeting.

SUMMARY: The Lincoln Resource Advisory Committee (RAC) will meet in Libby, Montana. The committee is authorized under the Secure Rural Schools and Community Self-Determination Act (the Act) and operates in compliance with the Federal Advisory Committee Act. The purpose of the committee is to improve collaborative relationships and to provide advice and recommendations to the Forest Service concerning projects and funding consistent with Title II of the Act. RAC information can be found at the following website: https://www.fs.usda.gov/main/pts/specialprojects/racs.

DATES: The meeting will be held on Monday, January 27, 2020, at 1:00 p.m.

All RAC meetings are subject to cancellation. For status of the meeting prior to attendance, please contact the person listed under FOR FURTHER INFORMATION CONTACT.

ADDRESSES: The meeting will be held at the Kootenai National Forest Supervisor's Office, 31374 U.S. Hwy. 2, Libby, Montana 59923.

Written comments may be submitted to the RAC Coordinator, Katie Andreessen.

FOR FURTHER INFORMATION CONTACT: Katie Andreessen, RAC Coordinator, by phone at 406-283-7781 or via email at marikate.andreessen@usda.gov. Individuals who use telecommunication devices for the deaf (TDD) may call the Federal Information Relay Service (FIRS) at 1-800-877-8339 between 8:00 a.m. and 8:00 p.m., Eastern Standard Time, Monday through Friday.

SUPPLEMENTARY INFORMATION: The purpose of the meeting is to:

1. Vote on a RAC Chair;

2. Discuss, prioritize, and approve project proposals;

3. Discuss and/or approve recreation proposal; and

4. Receive public comment.

The meeting is open to the public. The agenda will include time for people to make oral statements, subject to time requirements by RAC facilitator. Anyone who would like to bring related matters to the attention of the committee may file written statements with the committee staff before or after the meeting.

Meeting Accommodations: If you are a person requiring reasonable accommodation, please make requests in advance for sign language interpreting, assistive listening devices, or other reasonable accommodation. For access to the facility or proceedings, please contact the person listed in the section titled FOR FURTHER INFORMATION CONTACT. All reasonable accommodation requests are managed on a case by case basis.

Dated: January 13, 2020.
Cikena Reid,
USDA, Committee Management Officer.

[FR Doc. 2020-00650 Filed 1-15-20; 8:45 am]

BILLING CODE 3411-15-P